DEPARTMENT OF HEALTH AND HUMAN SERVICES

Centers for Disease Control and Prevention

[Program Announcement 01185]

Landmine-Related Injuries, Trauma Prevention and Capacity Building Program; Notice of Availability of Funds

A. Purpose

The Centers for Disease Control and Prevention (CDC) announces the availability of fiscal year (FY) 2001 funds for a cooperative agreement program to increase the capacity of organizations that work in the area of landmine-related injuries, including psycho-social trauma. This program addresses the “Healthy People 2010” focus areas of Injury and Violence Prevention and Environmental Health.

The purpose of this program is to develop, implement, and evaluate diverse activities addressing landmines and other war-related injuries as well as psycho-social trauma, in current or former war-affected countries. This program will establish an improved understanding of the burden of war-related injury and trauma in refugee populations, and how these effects may be mitigated.

No human subjects research will be supported under this program announcement.

B. Eligible Applicants

Assistance will be provided only to U.S. based non governmental organizations (NGO) or other U.S. non-profit organizations that are working in the following combined areas in at least four international settings: refugee health, landmine/war-related injuries, mental health and psycho-social trauma related to conflict.

Note: Title 2 of the United States Code, Chapter 26, Section 1611, states that an organization described in section 501(c)(4) of the Internal Revenue Code of 1986 that engages in lobbying activities is not eligible to receive Federal funds constituting an award, grant, cooperative agreement, contract, loan, or any other form.

C. Availability of Funds

Approximately $436,358 is available in FY 2001 to fund up to four awards. Awards are expected to range from $50,000 to $175,000. Applications that request more than $175,000 will be determined to be non-responsive to the announcement and returned to the applicant without review.

It is expected that awards will begin on or about September 30, 2001, and will be made for a 12-month budget period within a project period of up to three years. Funding estimates may change.

Continuation awards within an approved project period will be made on the basis of satisfactory progress as evidenced by required reports and the availability of funds.

D. Program Requirements

In conducting activities to achieve the purpose of this program, the recipient will be responsible for the activities under 1. (Recipient Activities), and CDC will be responsible for the activities listed under 2. (CDC Activities).

1. Recipient Activities:

a. Using currently collected data, evaluate the impact of war-related injuries and psycho-social trauma among war-affected and refugee populations.

b. Design and implement violent injury prevention activities in war-affected displaced and refugee populations.

c. Present and disseminate findings from program activities so as to add to the body of knowledge and methods related to violent injury and psycho-social trauma in displaced populations affected by conflict.

d. Collect and analyze existing landmine impact survey data, including data on mental health, for use in public health program development and evaluation in one or more countries.

e. Develop and disseminate guidelines for the use of routinely collected landmine impact evaluation data in the implementation of public health responses to landmine-affected communities.

f. Using routinely collected impact survey data, evaluate the implementation of CARE/United Nations mine awareness guidelines (which are the most frequently used mine awareness guidelines) in one or more countries and recommend steps for improving CARE/United Nations mine awareness program guidelines.

2. CDC Activities:

a. Provide consultation and assistance, as needed, in planning and implementing programs activities among displaced and refugee populations.

b. Provide science-based collaboration and technical assistance, as needed, in injury and psycho-social trauma prevention and measurement strategies in displaced and refugee populations.

c. Provide technical assistance, as needed, in the preparation and presentation of data regularly collected for surveillance and evaluation purposes.

E. Content

Your application will be evaluated on the criteria listed, so it is important to follow them in laying out your program plan. The narrative should be no more than 25 double-spaced pages, printed on one side, with one inch margins, and unreduced font. The application must be submitted unstapled and unbound.

In completing the application, the applicant should:

1. Concisely state their understanding of the objectives and program intent, problems, complexities, and interactions required of this cooperative agreement.

2. Present a plan and approach for carrying out the evaluation and surveillance activities for landmine-related injuries and psycho-social trauma in war-affected and refugee populations.

3. Describe their experience in conducting similar work.

4. Identify the professional personnel to be assigned to this project and their commitment to this effort, and describe the support staff services to be provided.

5. Provide first year budget estimates for addressing each of the activities described.

F. Submission and Deadline

Submit the original and two copies of PHS 5161-1 (OMB Number 0920-0428). Forms are available in the application kit and at the following Internet address: www.cdc.gov/od/pgo/forminfo.htm

On or before September 4, 2001, submit the application to the Grants Management Specialist identified in the “Where to Obtain Additional Information” section of this announcement.

G. Evaluation Criteria

Each application will be evaluated individually against the following criteria by an independent review group appointed by CDC.

1. Understanding of the problem (20 percent)

Extent to which the applicant demonstrates a clear, concise understanding of the nature of the problem to be addressed. This includes a description of the public health importance of the planned activities to be undertaken, and realistic presentation of proposed objectives.

2. Technical approach (25 percent)

The extent to which the applicant's proposed activities form a logical strategy, including a reasonable activity time-line, and measurable management and data analysis steps.

3. Ability to carry out the project (25 percent)

The extent to which the applicant provides evidence of its ability to carry out the proposed project.

4. Personnel (20 percent)

The extent to which professional personnel involved in this project are qualified, including evidence of experience similar to this project.

5. Plans for Administration (10 percent)

Adequacy of plans for administering the project.

6. Budget (not scored)

The extent to which itemized budget for conducting the project, along with justification, is reasonable and consistent with stated objectives and planned program activities.

H. Other Requirements

Technical Reporting Requirements

Provide CDC with original plus two copies of:

Semi-annual progress reports no more than 30 days after the end of the report period; annual financial status report, no more than 90 days after the end of the budget period; and final financial status and performance reports, no more than 90 days after the end of the project period.

Send all reports to the Grants Management Specialist identified in the “Where to Obtain Additional Information” section of this announcement.

The following additional requirements are applicable to this program. For a complete description of each, see Attachment I of the announcement in the application kit.

AR-9 Paperwork Reduction

AR-10 Smoke-Free Workplace Requirements

AR-11 Healthy People 2010

AR-12 Lobbying Restrictions

AR-14 Accounting System Requirements

AR-15 Proof of Non-Profit Status

AR-16 Security Clearance Requirement

I. Authority and Catalog of Federal Domestic Assistance Number

This program is authorized under sections 301, 307, and 317 of the Public Health Service Act, [42 U.S.C. section 241, 242(l) and 247(b)], as amended. The Catalog of Federal Domestic Assistance number is 93.283.

J. Where To Obtain Additional Information

This and other CDC announcements can be found on the CDC home page Internet address—http://www.cdc.gov Click on “Funding” then “Grants and Cooperative Agreements.”

To obtain business management technical assistance, contact:

Sharron Orum, Grants Management Specialist, Grants Management Branch, Procurement and Grants Office, Centers for Disease Control and Prevention, Announcement 01185, 2920 Brandywine Road, Room 3000, Atlanta, GA 30341-4146, Telephone number: (770) 488-2716, Email address: sorum@cdc.gov.

For program technical assistance, contact: Marilyn DiSirio, International Emergency Refugee Health Branch, Division of Emergency and Environmental Health Services, National Center for Environmental Health, Centers for Disease Control and Prevention, 4770 Buford Highway, NE (F-48), Atlanta, GA 30341, Telephone number: (770) 488-7021, Email address: mdisirio@cdc.gov.

Dated: August 10, 2001.
Rebecca O'Kelley,
Acting Director, Procurement and Grants Office, Centers for Disease Control and Prevention (CDC).

[FR Doc. 01-20623 Filed 8-15-01; 8:45 am]

BILLING CODE 4163-18-P